FEDERAL COMMUNICATIONS COMMISSION

47 CFR Part 73

[DA 04-3332; MB Docket No. 04-403, RM-11097; MB Docket No. 04-404, RM-11098]

Radio Broadcasting Services; Baudette, MN and Maysville, OK

AGENCY: Federal Communications Commission.

ACTION: Proposed rule.

SUMMARY: The Audio Division requests comments on a petition filed by R.P. Broadcasting, Inc. proposing the allotment of Channel 233C1 at Baudette, Minnesota, as the community's first local aural transmission service. Channel 233C1 can be allotted to Baudette in compliance with the Commission's minimum distance separation requirements with a site restriction of 0.6 kilometers (0.4 miles) east to avoid a short-spacing to Canadian Station CHIQ-FM, Channel 232C, Winnipeg, Manitoba, Canada. The reference coordinates for Channel 233C1 at Baudette are 48-42-52 North Latitude and 94-35-32 West Longitude. The Audio Division also requests comment on a petition filed by Charles Crawford proposing the allotment of Channel 251A at Maysville, Oklahoma, as the community's first local aural transmission service. Channel 251A can be allotted to Maysville in compliance with the Commission's minimum distance separation requirements at a site near the city reference coordinates. The reference coordinates for Channel 251A at Maysville are 39-49-00 NL and 97-24-18 WL.

DATES: Comments must be filed on or before December 16, 2004, and reply comments on or before December 31, 2004.

ADDRESSES: Federal Communications Commission, 445 Twelfth Street, SW., Washington, DC 20554. In addition to filing comments with the FCC, interested parties should serve the petitioner, his counsel, or consultant, as follows: Harry F. Cole, Esq., Anne Goodwin Crump, Esq., Counsel, R.P. Broadcasting, Inc., Fletcher, Heald & Hildreth, P.L.C., 1300 North 17th Street, 11th Floor, Arlington, Virginia 22209 and Charles Crawford, 4553 Bordeaux Avenue, Dallas, TX 75205.

FOR FURTHER INFORMATION CONTACT: Rolanda F. Smith, Media Bureau, (202) 418-2180.

SUPPLEMENTARY INFORMATION: This is a synopsis of the Commission's Notice of Proposed Rule Making, MB Docket Nos. 04-403, 04-404, adopted October 20, 2004 and released October 25, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Minnesota, is amended by adding Baudette, Channel 233C1.

3. Section 73.202(b), the Table of FM Allotments under Oklahoma, is amended by adding Maysville, Channel 251A.

Federal Communications Commission.
John A. Karousos,
Assistant Chief, Audio Division, Media Bureau.

[FR Doc. 04-25058 Filed 11-9-04; 8:45 am]

BILLING CODE 6712-01-P